DEPARTMENT OF COMMERCE

National Oceanic and Atmospheric Administration

RIN 0648-XD524

Pacific Fishery Management Council; Public Meeting

AGENCY: National Marine Fisheries Service, National Oceanic and Atmospheric Administration, Commerce.

ACTION: Notice of public meeting.

SUMMARY: The Pacific Fishery Management Council's (Council) Salmon Subcommittee of the Scientific and Statistical Committee (SSC) will hold a joint methodology review meeting with the Salmon Technical Team (STT) and Model Evaluation Workgroup (MEW), followed by a single-day meeting of the STT, all of which will be open to the public.

DATES: The joint methodology review meeting will be held Tuesday, October 21, from 1 p.m. to 5 p.m., Wednesday, October 22, 2014, from 9 a.m. to 5 p.m., and Thursday, October 23, 2014, from 9 a.m. to noon, or until business is completed. The STT will continue with a one-day meeting on Friday, October 24, 2014, from 9 a.m. to 5 p.m.

ADDRESSES: Both meetings will be held at the Sheraton Portland Airport Hotel, 8235 NE Airport Way, Portland OR 97220; telephone: (503) 281-2500. The methodology review meeting will be in the St. Helens D Room and the STT meeting will be in the Garden C Room.

Council address: Pacific Council, 7700 NE Ambassador Place, Suite 101, Portland, OR 97220-1384.

FOR FURTHER INFORMATION CONTACT: Mr. Mike Burner, Pacific Council; telephone: (503) 820-2414.

SUPPLEMENTARY INFORMATION: The purpose of the methodology review meeting is to discuss and review proposed changes to analytical methods used in salmon management. Recommendations from the methodology review meeting will be presented at the November 14-19, 2014 Council meeting in Costa Mesa, CA where the Council is scheduled to take final action on the proposals. Final methodology review topics were adopted by the Council at their September 12-17, 2014 meeting in Spokane, WA and are posted on the Pacific Council's Web page (www.pcouncil.org). The STT will hold a 1-day session following the methodology review to discuss items on the Council's November 2014 meeting agenda. Major topics include: The salmon methodology review, the Lower Columbia River coho harvest matrix, and the preseason salmon management schedule, process, and documentation for 2015.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: September 30, 2014.
Tracey L. Thompson,
Acting Deputy Director, Office of Sustainable Fisheries, National Marine Fisheries Service.

[FR Doc. 2014-23617 Filed 10-2-14; 8:45 am]

BILLING CODE 3510-22-P